DEPARTMENT OF THE INTERIOR

National Park Service

National Historic Landmarks Survey; Notice of Draft Additional Documentation for San Luis de Apalache National Historic Landmark, Leon County, FL

The National Historic Landmarks Survey solicits comments on draft additional documentation that has been prepared for San Luis de Apalache National Historic Landmark. The additional documentation presents findings from recent research and provides a more detailed history of the site than was included in the original landmark nomination form. In addition, the additional documentation proposes to change the name of the landmark. When the property was designated a landmark on October 9, 1960, the proper name was unknown. Research has since determined that the property was known as San Luis de Talimali, which the additional documentation proposes to make the official name.

The draft additional documentation for San Luis de Apalache National Historic Landmark is available on the National Historic Landmarks Survey Web site at: http://www.cr.nps.gov/nhl/sanluis.pdf.

Comments on the proposed draft additional documentation will be received for 45 days from the date of this notice. Please send written comments to Carol D. Shull, Chief, National Historic Landmarks Survey, National Register, History and Education, National Park Service, 1849 C Street, NW., (2280), Washington, DC 20240, Attention: Daniel Vivian (phone: 202-354-2252; fax: 202-371-2229; e-mail: dan_vivian@nps.gov).

Carol D. Shull,
Chief, National Historic Landmarks Survey, National Register, History and Education.

[FR Doc. 03-18198 Filed 7-17-03; 8:45 am]

BILLING CODE 4312-51-P